INTERNATIONAL TRADE COMMISSION

[Investigation Nos. 701-TA-558 and 731-TA-1316 (Review)]

1-Hydroxyethylidene-1, 1-Diphosphonic Acid (HEDP) From China

Determination

On the basis of the record ¹ developed in the subject five-year reviews, the United States International Trade Commission (“Commission”) determines, pursuant to the Tariff Act of 1930 (“the Act”), that revocation of the countervailing and antidumping duty orders on 1-hydroxyethylidene-1, 1-diphosphonic acid from China would be likely to lead to continuation or recurrence of material injury to an industry in the United States within a reasonably foreseeable time.

¹ The record is defined in § 207.2(f) of the Commission's Rules of Practice and Procedure (19 CFR 207.2(f)).

Background

The Commission instituted these reviews on April 1, 2022 (87 FR 19125) and determined on July 5, 2022 that it would conduct expedited reviews (87 FR 64248, October 24, 2022).

The Commission made these determinations pursuant to section 751(c) of the Act (19 U.S.C. 1675(c)). It completed and filed its determinations in these reviews on November 18, 2022. The views of the Commission are contained in USITC Publication 5386 (November 2022), entitled 1-Hydroxyethylidene-1, 1-Diphosphonic Acid (HEDP) from China: Investigation Nos. 701-TA-558 and 731-TA-1316 (Review).

By order of the Commission.
Issued: November 18, 2022.
Katherine Hiner,
Acting Secretary to the Commission.

[FR Doc. 2022-25686 Filed 11-23-22; 8:45 am]

BILLING CODE 7020-02-P